DEPARTMENT OF ENERGY

Federal Energy Regulatory Commission

[Docket No. RP97-346-028]

Equitrans, L.P.; Notice of Gathering Surcharge Report

November 6, 2000.

Take notice that on November 1, 2000, Equitrans, L.P. (Equitrans) submitted its stranded gathering surcharge report pursuant to Article IV of the Stipulation and Agreement (Stipulation) filed on January 22, 1999 and amended on March 31, 1999 in the above reference dockets.

Equitrans the purpose of this filing is for Equitrans to report its reconciliation of the amount collected during the surcharge period for standard gathering and the amount Equitrans was authorized to collect under the Stipulation.

Equitrans states that the total net amount collected, including interest, resulted in an under-recovery of $3,501.34. Because of the small amount of the under-recovery, Equitrans states that it is waiving its right to collect the under-recovery and will not direct bill its firm transportation customers for that amount.

Any person desiring to protest said filing should file a protest with the Federal Energy Regulatory Commission, 888 First Street, NE., Washington, DC 20426, in accordance with section 385.211 of the Commission's Rules and Regulations. All such protests must be filed on or before November 13, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28931 Filed 11-9-00; 8:45 am]

BILLING CODE 6717-01-M